DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than February 10, 2020.

Interested persons are invited to submit written comments regarding the subject matter of the investigations to the Administrator, Office of Trade Adjustment Assistance, at the address shown below, not later than February 10, 2020.

The petitions filed in this case are available for inspection at the Office of the Administrator, Office of Trade Adjustment Assistance, Employment and Training Administration, U.S. Department of Labor, Room N-5428, 200 Constitution Avenue NW, Washington, DC 20210.

Signed at Washington, DC, this 9th day of January 2020.
Hope D. Kinglock,
Certifying Officer, Office of Trade Adjustment Assistance.

Appendix

90 TAA Petitions Instituted Between 12/1/19 and 12/31/19
TA-W | Subject firm (petitioners) | Location | Date of institution | Date of petition
95434 | HCL/COTG—A Xerox Company (Workers) | Bolingbrook, IL | 12/02/19 | 11/12/19
95435 | Nestle Dreyer's Ice Cream Company (State/One-Stop) | Tinley Park, IL | 12/02/19 | 11/21/19
95436 | Nestle Dreyer's Ice Cream Company (State/One-Stop) | Glendale Heights, IL | 12/02/19 | 11/21/19
95437 | Lattice Semiconductor Corporation (State/One-Stop) | Hillsboro, OR | 12/03/19 | 12/02/19
95438 | Norpac Foods, Inc. (State/One-Stop) | Stayton, OR | 12/03/19 | 12/02/19
95439 | Citibank, N.A. (State/One-Stop) | Irving, TX | 12/04/19 | 12/03/19
95440 | Gerdau (State/One-Stop) | Duluth, MN | 12/04/19 | 12/03/19
95441 | Mitchel & Scott Machine Company (State/One-Stop) | Indianapolis, IN | 12/04/19 | 12/03/19
95442 | Toppan Merrill LLC (State/One-Stop) | New York, NY | 12/04/19 | 12/03/19
95443 | Western Panel Manufacturing Inc. (State/One-Stop) | Eugene, OR | 12/04/19 | 12/03/19
95444 | Alorica (State/One-Stop) | Jackson, MI | 12/05/19 | 12/04/19
95445 | Comprehensive Decommissioning International (Company) | Plymouth, MA | 12/05/19 | 12/04/19
95446 | Concentrix CVG Corporation (State/One-Stop) | Salt Lake City, UT | 12/05/19 | 12/04/19
95447 | El Dorado Paper Bag Manufacturing Company Inc. (State/One-Stop) | El Dorado, AR | 12/05/19 | 12/04/19
95448 | Honeywell International, Inc. (State/One-Stop) | Smithfield, RI | 12/05/19 | 12/04/19
95449 | Muzak LLC dba Mood Media (State/One-Stop) | Fort Mill, SC | 12/05/19 | 12/04/19
95450 | Sperian Protection (State/One-Stop) | Smithfield, RI | 12/05/19 | 12/04/19
95451 | Ascena Retail Group Inc. (State/One-Stop) | Mahwah, NJ | 12/06/19 | 12/05/19
95452 | CFS Brands, LLC (Company) | Sparta, WI | 12/06/19 | 12/05/19
95453 | Circa Corporation (Workers) | San Francisco, CA | 12/06/19 | 12/05/19
95454 | Guitabec Inc. (Company) | Berlin, NH | 12/06/19 | 12/05/19
95455 | Resource Décor (Workers) | Hickory, NC | 12/06/19 | 12/05/19
95456 | Artech Information Systems (State/One-Stop) | Morristown, NJ | 12/09/19 | 12/06/19
95457 | Bank of New York Mellon (State/One-Stop) | Oriskany, NY | 12/09/19 | 12/06/19
95458 | Ebonite International (State/One-Stop) | Hopkinsville, KY | 12/09/19 | 12/06/19
95459 | Fleetwood Fixtures (Workers) | Shoemakersville, PA | 12/09/19 | 12/06/19
95460 | Nielsen Company (Workers) | Green Bay, WI | 12/09/19 | 12/06/19
95461 | Northwest Hardwoods Inc. (State/One-Stop) | Buena Vista, VA | 12/09/19 | 12/06/19
95462 | SKF (Company) | Hanover, PA | 12/09/19 | 12/05/19
95463 | STORServer (State/One-Stop) | Colorado Springs, CO | 12/09/19 | 12/06/19
95464 | Tenneco (State/One-Stop) | Lincoln, NE | 12/09/19 | 12/06/19
95465 | Tri-Star Electronics International Inc. (State/One-Stop) | El Segundo, CA | 12/09/19 | 12/06/19
95466 | Accenture (State/One-Stop) | Minneapolis, MN | 12/10/19 | 12/09/19
95467 | Canadian National (State/One-Stop) | Proctor, MN | 12/10/19 | 12/09/19
95468 | Grace Bio-Labs Inc. (State/One-Stop) | Bend, OR | 12/10/19 | 12/09/19
95469 | Optum Health (Workers) | Jeffersonville, IN | 12/10/19 | 12/06/19
95470 | HomeAdvisor (State/One-Stop) | Colorado Springs, CO | 12/11/19 | 12/10/19
95471 | Pancon Corporation (Workers) | Temecula, CA | 12/11/19 | 12/11/19
95472 | Inteva Products (Company) | Gadsden, AL | 12/12/19 | 12/11/19
95473 | Author Solutions (State/One-Stop) | Bloomington, IN | 12/13/19 | 12/13/19
95474 | Motionwear, LLC (State/One-Stop) | Indianapolis, IN | 12/13/19 | 12/12/19
95475 | Pancon Corporation (State/One-Stop) | Temecula, CA | 12/13/19 | 12/12/19
95476 | St. John Knits (State/One-Stop) | Irvine, CA | 12/13/19 | 12/12/19
95477 | Concentrix CVG Corporation (State/One-Stop) | Tampa, FL | 12/16/19 | 12/13/19
95478 | McKesson Medical Surgical Inc. (State/One-Stop) | Farmington, CT | 12/16/19 | 12/13/19
95479 | Molex, LLC (State/One-Stop) | Maumelle, AR | 12/16/19 | 12/13/19
95480 | Panasonic Customer Call Center (State/One-Stop) | Chesapeake, VA | 12/16/19 | 12/13/19
95481 | Petrobras America Inc. (State/One-Stop) | Houston, TX | 12/16/19 | 12/13/19
95482 | Treetop Commons, LLC (State/One-Stop) | Portland, OR | 12/16/19 | 12/13/19
95483 | Well Fargo (State/One-Stop) | Glen Allen, VA | 12/16/19 | 12/13/19
95484 | Anthony Timberlands, Inc. (State/One-Stop) | Beirne, AR | 12/17/19 | 12/16/19
95485 | Comcast Cable Communications Xfinity (State/One-Stop) | Englewood, CO | 12/17/19 | 12/16/19
95486 | Hubbell Lighting, Inc. (State/One-Stop) | El Dorado, AR | 12/17/19 | 12/16/19
95487 | Nestle Prepared Foods Co. (State/One-Stop) | Jonesboro, AR | 12/17/19 | 12/16/19
95488 | ACF Industries LLC (State/One-Stop) | Milton, PA | 12/18/19 | 12/17/19
95489 | Logansport Machine (State/One-Stop) | Logansport, IN | 12/18/19 | 12/17/19
95490 | Lonza Walkersville, Inc. (State/One-Stop) | Walkersville, MD | 12/18/19 | 12/17/19
95491 | Marc Fisher Footwear (State/One-Stop) | Greenwich, CT | 12/18/19 | 12/17/19
95492 | Nexteer Automotive (Workers) | Saginaw, MI | 12/18/19 | 12/17/19
95493 | Powerex, Inc. (Company). | Youngwood, PA | 12/18/19 | 12/16/19
95494 | Amesbury Truth (State/One-Stop) | Fremont, NE | 12/19/19 | 12/18/19
95495 | Dentsply Sirona (Company) | York, PA | 12/19/19 | 12/18/19
95496 | E-Lo Sportwear, LLC (Workers) | New York, NY | 12/19/19 | 12/18/19
95497 | Metalor Technologies USA (State/One-Stop) | Export, PA | 12/19/19 | 12/16/19
95498 | Tyson Foods Inc. Golden Island Jerky Company (State/One-Stop) | Rancho Cucamonga, CA | 12/19/19 | 12/18/19
95499 | Castwell Products, LLC (State/One-Stop) | Skokie, IL | 12/20/19 | 12/19/19
95500 | Halliburton Energy Services (State/One-Stop) | Duncan, OK | 12/20/19 | 12/18/19
95501 | Vivint Solar (State/One-Stop) | Lehi, UT | 12/20/19 | 12/19/19
95502 | Vivint Solar Developer, LLC (Workers) | Lehi, UT | 12/20/19 | 12/17/19
95503 | Dressbarn (Ascena Retail Group) (State/One-Stop) | Sioux Falls & Rapid City, SD | 12/23/19 | 12/20/19
95504 | JTEKT North America—Koyo Bearings (Company) | Orangeburg, SC | 12/23/19 | 12/20/19
95505 | Linkone Solutions LLC (State/One-Stop) | Stanfield, OR | 12/23/19 | 12/20/19
95506 | Morgan Stanley (State/One-Stop) | New York, NY | 12/23/19 | 12/20/19
95507 | Symantec—Norton/Lifelock (State/One-Stop) | Herndon, VA | 12/23/19 | 12/20/19
95508 | Ubiquiti Networks, Inc. (State/One-Stop) | Portland, OR | 12/23/19 | 12/20/19
95509 | Cognizant (State/One-Stop) | New York, NY | 12/26/19 | 12/23/19
95510 | Fiserv Solutions, LLC (State/One-Stop) | Beaverton, OR | 12/26/19 | 12/24/19
95511 | IBM Global Services (State/One-Stop) | Endicott, NY | 12/26/19 | 12/23/19
95512 | IDT Corporation (State/One-Stop) | Newark, NJ | 12/26/19 | 12/23/19
95513 | ITT Goulds Pumps (State/One-Stop) | Seneca Falls, NY | 12/26/19 | 12/23/19
95514 | Medical Billing Solutions, Inc. (State/One-Stop) | Richmond, VA | 12/26/19 | 12/23/19
95515 | TMK-IPSCO (Workers) | Catoosa, OK | 12/26/19 | 12/23/19
95516 | Cameron Manufacturing & Design (State/One-Stop) | Horseheads, NY | 12/27/19 | 12/26/19
95517 | Coronado Global Resources (State/One-Stop) | Raven, VA | 12/27/19 | 12/26/19
95518 | Corsicana Bedding (Company) | Barnesville, PA | 12/30/19 | 12/27/19
95519 | PSG Blackmer a Dover Corporation (Company) | Grand Rapids, MI | 12/30/19 | 12/27/19
95520 | Castelli America (State/One-Stop) | Ashville, NY | 12/31/19 | 12/23/19
95521 | Franks International (State/One-Stop) | Lafayette, LA | 12/31/19 | 12/30/19
95522 | Peabody Wildcat Hills Complex (State/One-Stop) | Equality, IL | 12/31/19 | 12/24/19
95523 | Volvo Trucks North America (State/One-Stop) | Dublin, VA | 12/31/19 | 12/30/19

[FR Doc. 2020-01512 Filed 1-28-20; 8:45 am]

BILLING CODE P